DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS) Executive Subcommittee.

Time and Date: July 25, 2006, 9 a.m.-4:30 p.m.

Place: Hamilton Crowne Plaza Hotel, 1001 14th Street, NW., Washington, DC 20005.

Status: Open.

Purpose: The Executive Subcommittee will review issues from the Full Committee Retreat and strategize next steps for the Committee

For Further Information Contact: Substantive program information as well as summaries of meetings and a roster of Committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: July 10, 2006.
James Scanlon,
Deputy Assistant Secretary for Science and Data Policy, Office of the Assistant Secretary for Planning and Evaluation.

[FR Doc. 06-6255 Filed 7-14-06; 8:45 am]

BILLING CODE 4151-05-M